OFFICE OF PERSONNEL MANAGEMENT

5 CFR Ch.1

Semiannual Regulatory Agenda

Correction

The Regulatory Information Service Center inadvertently omitted the following entry from the regulatory agenda of the Office of Personnel Management, published in the Unified Agenda of Federal Regulatory and Deregulatory Actions, part XXXVIII of the issue of Monday, December 22, 2003 (68 FR 73770), and should have included the following:

Office of Personnel Management (OPM)—Proposed Rule Stage

• ORGANIZATION OF THE GOVERNMENT FOR PERSONNEL MANAGEMENT; OVERSEAS EMPLOYMENT; TEMPORARY AND TERM EMPLOYMENT; RECRUITMENT AND SELECTION FOR TEMPORARY AND TERM APPOINTMENTS OUTSIDE THE REGISTER

Priority: Other Significant. Major status under 5 U.S.C. 801 is undetermined.

Legal Authority: Public Law 107-296

CFR Citation: 5 CFR 316; 5 CFR 333; 5 CFR 337; 5 CFR 410

Legal Deadline: None

Abstract: The Office of Personnel Management (OPM) is issuing interim regulations to implement certain Governmentwide human resources flexibilities contained in the Homeland Security Act of 2002. This regulation provides agencies with increased flexibility in assessing applicants using alternative ranking and selection procedures; the ability to select qualified candidates for jobs in the competitive service using direct-hire procedures including selection for temporary and term positions; the authority to pay or reimburse the costs of academic degree training from appropriated or other available funds under specified conditions; and increased flexibility in the use of academic degree training to address agency-specific human capital needs, goals, and challenges. This interim regulation will also remove part 333 of title 5, Code of Federal Regulations, Recruitment and Selection for Temporary and Term Appointments Outside the Register.

Timetable:

Action | Date | FR Cite
Interim Final Rule | 06/13/03 | 68 FR 35265
NPRM | 09/00/04

Regulatory Flexibility Analysis Required: No

Small Entities Affected: No

Government Levels Affected: None

RIN: 3206-AJ99

Agency Contact: Diane Tyrrell, Division for Strategic Human Resources Policy, Office of Personnel Management, 1900 E Street, NW., Washington, DC 20415, Phone: 202 606-0960, Fax: 202 606-2329, E-mail: dmtyrrel@opm.gov.

U.S. Office of Personnel Management.
Kay Coles James,
Director.

[FR Doc. 04-6813 Filed 3-26-04; 8:45 am]

BILLING CODE 6820-27-M